DEPARTMENT OF COMMERCE

National Oceanic and Atmospheric Administration

Programmatic Environmental Impact Statement for the Coral Reef Conservation Program; Notice of Intent; Scoping Period Announcement

AGENCY: Office for Coastal Management (OCM), National Ocean Service (NOS), National Oceanic and Atmospheric Administration (NOAA), Department of Commerce (DOC).

ACTION: Notice of intent; announcement of public scoping period and request for written comments.

SUMMARY: The National Oceanic and Atmospheric Administration (NOAA), Office for Coastal Management announces its intention to prepare a programmatic environmental impact statement (PEIS) in accordance with the National Environmental Policy Act of 1969 (NEPA) for its Coral Reef Conservation Program (CRCP), which is managed out of NOAA's National Ocean Service in Silver Spring, MD, and implemented in coastal areas and marine waters of Florida, Puerto Rico, U.S. Virgin Islands, Gulf of Mexico, Hawaii, Guam, the Commonwealth of the Northern Mariana Islands, American Samoa, the U.S. Pacific Remote Island Area, and targeted international regions including the wider Caribbean, the Coral Triangle, the South Pacific, and Micronesia. Publication of this document begins the official scoping period that will help identify issues and alternatives to be considered in the PEIS.

DATES: Written comments on the intent to prepare a PEIS will be accepted on or before Wednesday, August 15, 2018.

ADDRESSES: You may submit scoping comments for the CRCP PEIS by any of the following methods:

• Federal e-Rulemaking Portal: Go to http://www.regulations.gov/NOAA-NOS-2018-0077. Click the “Comment Now!” icon, complete the required fields, and enter or attach your comments.

• Mail: Please direct written comments to Harriet Nash, Deputy Director, NOAA's Coral Reef Conservation Program, Office for Coastal Management, 1305 East-West Highway, N/OCM6, Room 10404, Silver Spring, MD 20910.

SUPPLEMENTARY INFORMATION:

Background

NOAA is preparing a Draft Programmatic Environmental Impact Statement (DPEIS) for coral reef conservation and restoration activities implementing NOAA's CRCP throughout the United States, South Atlantic Ocean, Gulf of Mexico, and Pacific Island Regions, and priority international areas (i.e., wider Caribbean, Coral Triangle, South Pacific, and Micronesia). It will assess the direct, indirect, and cumulative environmental impacts of NOAA's proposed action to continue funding and otherwise implementing coral reef conservation and restoration activities. This will be achieved through its existing programmatic framework and related procedures for implementing the CRCP. The CRCP is implemented consistently with the requirements of the Coral Reef Conservation Act of 2000 (CRCA) and Executive Order 13089. Projects implemented or funded by NOAA vary in terms of their size, complexity, geographic location, and NOAA involvement. They often benefit diverse coral species, habitats, and ecosystem types. The CRCP conducts research and monitoring to gather data on the existence and condition of coral reef ecosystems to support conservation and restoration efforts. NOAA implements the CRCP across four of its line offices (i.e., National Ocean Service, Oceanic and Atmospheric Research, National Marine Fisheries Service, National Environmental Satellite Data Information Service) and in coordination with other federal agencies, state and local agencies, private conservation organizations, and research and academic institutions. A significant amount of this support is administered through grants and cooperative agreements. CRCP activities are prioritized based on available funding and the responsiveness to the priorities in its strategic plan, including jurisdictional needs.

The purpose of this DPEIS is to identify and evaluate the general environmental impacts, issues, and concerns related to the comprehensive management and implementation of the CRCP, including potential mitigation. NOAA anticipates that actual environmental effects will be caused by site-specific, project-level activities implementing the CRCP; therefore, this DPEIS will be used to support tiered, site-specific NEPA reviews by narrowing the scope of environmental impacts and facilitating focused, project-level reviews. NOAA also intends for this DPEIS to establish a tiered environmental decision making framework that will support efficient compliance with other statutes protecting natural resources such as the Endangered Species Act and Marine Mammal Protection Act. Since the CRCP will use this DPEIS to conduct tiered analyses, this document does not evaluate the environmental impacts of any project-level activities.

Alternatives

NOAA is preliminarily proposing to analyze three program-level alternatives:

• No Action Alternative reflecting the “status quo” management of the CRCP based on minimizing threats.

• Alternative 1: Continued Operation of the CRCP based on minimizing threats with the addition of a framework to further research, test, and potentially implement novel coral restoration intervention techniques to respond rapidly to imminent threats to corals and coral ecosystems.

• Alternative 2: Continued Operation of the CRCP plus implementation of discretionary, standardized conservation and mitigation measures with or without the addition of a framework for novel intervention techniques.

The fundamental distinction between Alternative 1 and the No Action Alternative is that Alternative 1 would adopt a framework that would add novel intervention techniques as tools to respond to imminent threats to corals. The DPEIS will consider the environmental effects of a suite of these intervention strategies, but will not commit to implement any. Implementation would occur through a separate decision making process. The primary distinction between Alternative 2 and the No Action Alternative is that Alternative 2 would call for implementation of not only mitigation measures imposed through statutory and regulatory compliance but also discretionary, standardized conservation and mitigation measures designed to further protect and conserve marine and other environmental resources. Alternative 2 could be adopted with or without a framework for novel intervention strategies.

Preliminary major issues to be addressed in this DPEIS may include: the impact of the CRCP's activities and operations on coral ecosystems; coral species listed as threatened or endangered under the Federal Endangered Species Act; other marine and terrestrial resources; and the cumulative effects of the action when considered along with environmental conditions and past, present, and future actions potentially affecting coral and coastal ecosystems and coastal marine resources. The CRCP is also seeking to identify mitigation measures that would be effective at avoiding, minimizing, and mitigating adverse effects of project-level activities and specifically requests public comment on this issue.

Public Comment

OCM begins this NEPA process by soliciting input from the public and interested parties on the type of impacts to be considered in the DPEIS, the range of alternatives to be assessed, and any other pertinent information. Specifically, this scoping process is intended to accomplish the following objectives:

1. Invite affected federal, state, and local agencies, and interested persons to participate in the DPEIS process.

2. Determine the potential significant environmental issues to be analyzed in the DPEIS.

3. Identify and eliminate issues determined to be insignificant or addressed in other documents.

4. Identify related environmental documents being prepared.

5. Identify other environmental review and consultation requirements.

The official scoping period ends on August 15, 2018. Please visit the CRCP web page for additional information regarding the program: https://coralreef.noaa.gov/.

Authority

The preparation of the DPEIS for the CRCP will be conducted under the authority and in accordance with the requirements of NEPA, Council on Environmental Quality Regulations (40 CFR parts 1500-1508), other applicable regulations, and NOAA's policies and procedures for compliance with those regulations.

Written comments must be received on or before August 15, 2018.

Dated: June 29, 2018.
W. Russell Callender,
Assistant Administrator for Ocean Services and Coastal Zone Management, National Oceanic and Atmospheric Administration.

[FR Doc. 2018-14750 Filed 7-10-18; 8:45 am]

BILLING CODE 3510-08-P